DEPARTMENT OF THE INTERIOR

Fish and Wildlife Service

[FWS-R2-R-2012-N142; FXRS12610200000S3-123-FF02R06000]

Trinity River National Wildlife Refuge, Liberty County, TX; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for the Trinity River National Wildlife Refuge (Refuge). In this final CCP, we describe how we will manage this Refuge for the next 15 years.

ADDRESSES: You may view or obtain copies of the final CCP and FONSI/EA by any of the following methods. You may request a hard copy or CD-ROM.

Agency Web Site: Download a copy of the documents at http://www.fws.gov/southwest/refuges/Plan/planindex.html.

Email: Joseph_Lujan@fws.gov. Include “Trinity River NWR final CCP” in the subject line of the message.

Mail: Joseph R. Lujan, Natural Resource Planner, U.S. Fish and Wildlife Service, Division of Planning, P.O. Box 1306, Albuquerque, NM 87103-1306.

In-Person Viewing or Pickup: Call 505-248-7458 to make an appointment during regular business hours at 500 Gold Avenue SW., Albuquerque, NM 87102 or the Trinity River NWR Headquarters, 601 FM 1011, Liberty, TX 77575; phone: 936-336-9786.

FOR FURTHER INFORMATION CONTACT: Stuart Marcus, Refuge Manager, Trinity River NWR, CCP Project, P.O. Box 10015, Liberty, TX 77575; 936- 336-9786 phone; or 936-336-9847 fax.

SUPPLEMENTARY INFORMATION:

Introduction

With this notice, we finalize the CCP process for Trinity River NWR. We started this process through a notice in the Federal Register (72 FR 45059; August 10, 2007). We released the draft CCP and the EA to the public, announcing and requesting comments in a notice of availability in the Federal Register (77 FR 18853-18856; March 28, 2012).

The Trinity River NWR, which consists of over 25,000 acres, is located approximately 50 miles northeast of Houston, and 40 miles west of Beaumont Texas. The primary purpose of the Refuge is to protect a remnant of the bottomland hardwood forest ecosystem along the Trinity River. The Refuge was officially established on January 4, 1994, and continues to acquire, restore, and preserve bottomland hardwood forests.

We announce our decision and the availability of the FONSI for the final CCP for Trinity River NWR in accordance with National Environmental Policy Act (NEPA) (40 CFR 1506.6(b)) requirements. We completed a thorough analysis of impacts on the human environment, which we included in the EA that accompanied the draft CCP.

The CCP will guide us in managing and administering Trinity River NWR for the next 15 years. Alternative C, as we described in the final CCP, is the foundation for the CCP.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives, Including Selected Alternative

Our draft CCP/EA (77 FR 18853; March 28, 2012) addressed several issues. To address these, we developed and evaluated the following alternatives.

Alternatives | A—No-Action alternative (Current practices) | B—Improved habitat management and public use alternative | C—Optimal habitat management and public use (Proposed action) alternative
Issues
Habitat and Wildlife Management Issues
1. Native Flora/Fauna Conservation | Conserve/restore bottomland hardwood forests. Restore native flora; reintroduce native fauna; manage native nuisance flora/fauna | Same as Alternative A, plus use prescribed fire for resource management and initiate baseline monitoring for flora and fauna | Same as Alternative B
2. Invasive Flora/Fauna Management | Remove exotic and invasive flora/fauna as resources permit; prevent reintroduction of exotic and invasive flora/fauna as resources permit | Same as Alternative A, plus develop invasive species strike team and map “hotspots” to prioritize management efforts | Same as Alternative B.
3. Wetland Management | Maintain the integrity of water control structures/levees; conduct water-quality sampling and fish surveys | Same as Alternative A, plus conduct small-scale restoration of hydrological flow at Champion Lake South unit | Same as Alternative B.
4. Land Acquisition | Acquire lands from willing sellers within the approved acquisition boundary on a case-by-case basis | Update Trinity River Floodplain Habitat Stewardship Program and Land Protection Plan to update the acquisition boundary; assign refuge realty specialist to Refuge office | Same as Alternative B.
5. Climate Change | Plant trees to sequester carbon; use “green” technologies wherever possible, and recycle | Same as Alternative A, plus gather baseline inventory and monitoring data | Same as Alternative B.
6. Resource Protection | Assign refuge law enforcement officer to patrol 25,000 acres, backed up by opportunistic observations by other refuge staff | Same as Alternative A, plus add patrols using other refuges' law enforcement officers | Same as Alternative B, plus add an additional officer to patrol up to 80,000 acres.
Visitor Services Issues
1. Hunting | Designate units open to hunting by permit only, for big game, upland game, and waterfowl, as is currently the case in eight units | Same as Alternative A, plus open one additional unit for big game hunting at Champion Lake South unit | Same as Alternative B, plus open one additional unit for big game and upland game hunting at Palmetto unit.
2. Fishing | Direct visitors to Champion Lake and Pickett's Bayou | Same as Alternative A, plus direct visitors to McGuire and Silver Lake units when piers are developed | Same as Alternative B, plus direct visitors to Brierwood unit once pier is developed.
3. Wildlife Observation | Open refuge to wildlife observation; direct visitors to eight public use areas | Same as Alternative A plus open 1 additional area at Champion Lake South unit | Same as Alternative B, plus open one additional area at Palmetto unit.
4. Wildlife Photography | Open refuge to photography; direct visitors to eight public use areas | Same as Alternative A plus construct photo blind at Brierwood unit | Same as Alternative B, plus construct photo blind at McGuire unit.
5. Environmental Education | Do not develop environmental education programs on the refuge | Develop off-refuge environmental education curricula, working with local schools to meet State requirements | Same as Alternative B, plus develop on-refuge program, upon the completion of the educational facility at Champion Lake Public Use Area.
6. Interpretation | Host two on-refuge annual festivals, on Earth Day and on Free Family Fishing Day; host approximately six off-refuge annual events, such as county jubilee and various public speaking events | Same as Alternative A, plus host approximately 10 additional off- refuge events, as requested; develop and provide self-guided interpretative materials at Champion Lake and Brierwood units | Same as Alternative B, plus develop interpretive programs at visitor center; develop and provide kiosks in all areas with public use facilities.
Facilities Issues
1. Public Use Access | Allow vehicular on designated unpaved roads; allow walk-in-only access on eight designated units; allow boating access on Pickett's Bayou and Champion Lake | Same as Alternative A, plus improve road to McGuire Pond; establish canoe/kayak launch site at Brierwood unit | Same as Alternative B, plus open trail at Champion Lake South unit.
2. Public Use Facilities | Maintain current limited facilities at Champion Lake Public Use Area, including fishing pier, butterfly garden, parking, and portable toilet. Seven other public use areas have only one parking lot each and one photo blind each | Rehabilitate the Lodge at Champion Lake Public Use Area, pave the road at Champion Lake Public Use Area, and construct fishing pier at McGuire unit | Construct visitor center adjacent to headquarters; construct fishing piers at Brierwood unit; construct full-service bathroom at Champion Lake Public Use Area.
3. Administrative Facilities | Maintain refuge-owned headquarters and storage facility along FM 1011 | Construct a maintenance shop at Champion Lake equipment storage area | Rehabilitate the two-room log cabin at Champion Lake for use for staff and volunteer offices.

Comments

We solicited comments on the draft CCP and the EA for the Trinity River NWR from March 28, 2012, to May 4, 2012 (77 FR 718853; March 28, 2012). The public was notified of the release of the draft CCP and the EA through the NOA, through local media outlets, and public notices were posted on various community bulletin boards and postcards were mailed to over 700 individuals identified on the refuge mailing list. The draft CCP and EA were made available, online, at the Regional Office in Albuquerque, at the Refuge, and at four public libraries in surrounding communities. A public open house meeting was held on April 10, 2012. The Service received two comment letters. The comments were thoroughly reviewed and the CCP did not change substantially based on public comment.

Selected Alternative

After considering the comments we received, we have selected Alternative C for implementation. Alternative C was selected over the other alternatives because it best meets the Refuge's vision for the future, the purposes for which the Refuge was established, and the habitat, wildlife and visitor services goals identified in the CCP. This alternative is the basis for the CCP and describes how habitat objectives will be accomplished through a combination of management activities to encourage ecological integrity, promote restoration of bottomland hardwood forest habitat along the Trinity River, control invasive species. This alternative will not adversely impact trust resources, including threatened and endangered species, or their habitat. Opportunities for wildlife-dependent recreation activities, such as hunting, fishing, observation, photography, environmental education, and interpretation will be enhanced. Future management actions will have a neutral or positive impact on the local economy and the recommendations in the CCP will ensure that refuge management is consistent with the mission of the National Wildlife Refuge System.

Public Availability of Documents

In addition to the methods in ADDRESSES, you can view or obtain documents at the following locations:

• At the following libraries:

Library | Address | Phone No.
Liberty Municipal Library | 1710 Sam Houston Ave Liberty, TX 77575 | 936-336-8901
Dayton Library | 307 W. Houston Dayton, TX 77535 | 936-258-7060
Austin Memorial Library | 220 S. Bonham Cleveland, TX 77327 | 281-592-3920
Tarkington Community Library | 3032 FM 163 Rd Cleveland, TX 77327 | 281-592-5136

Benjamin N. Tuggle,
Regional Director, Southwest Region.

[FR Doc. 2012-25942 Filed 10-19-12; 8:45 am]

BILLING CODE 4310-55-P